DEPARTMENT OF HEALTH AND HUMAN SERVICES

Centers for Disease Control and Prevention

[60Day-09-09AN]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960, send comments to Maryam I. Daneshvar, CDC Acting Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

National Youth Physical Activity and Nutrition Study (NYPANS)—New—National Center for Chronic Disease Prevention and Health Promotion (NCCDPHP), Centers for Disease Control and Prevention (CDC).

Background and Brief Description

The prevalence of obesity among adolescents aged 12 to 19 more than tripled in the past 20 years, increasing from 5% in 1980 to 17.6% in 2006. Almost two-thirds of obese young people have at least one additional risk factor for heart disease, such as high cholesterol or high blood pressure. Obese young people are more likely than children of normal weight to become overweight or obese adults, and are therefore more at risk for associated adult health problems, including heart disease, type 2 diabetes, stroke, several types of cancer, and osteoarthritis. However, healthy lifestyle habits, including healthy eating and physical activity, can lower the risk of becoming obese and developing related diseases.

To help develop effective interventions to stem the increase of obesity among adolescents, it is essential to better understand the behavior and behavioral determinants of healthy eating and physical activity for youth in the U.S. Toward this end, CDC proposes to conduct a study involving a nationally representative sample of students attending public and private schools in grades 9-12. CDC plans to collect information from students in Spring 2010. The primary information collection will include a paper-and-pencil survey, a standardized protocol to measure height and weight, and telephone interviews to elicit 24-hour dietary recalls among a subsample of respondents. Information supporting the study also will be collected from school administrators and teachers.

This study has multiple purposes: (1) To provide nationally representative data on behaviors and behavioral determinants related to physical activity and nutrition, including data to measure at least two national health objectives in Healthy People 2010, an initiative of the U.S. Department of Health and Human Services (HHS); (2) to provide data to help improve the clarity and strengthen the validity of questions on the Youth Risk Behavior Survey (OMB No. 0920-0493, exp. 11/30/2011), which has been conducted biennially since 1991; and (3) to understand the associations among behaviors and behavioral determinants related to physical activity and nutrition, and their association with body mass index. Study results will have significant implications for policy and program development for obesity prevention programs nationwide.

There are no costs to respondents except their time.

Estimated Annualized Burden Hours
Type of respondents | Form name | Number of respondents | Number of responses per respondent | Average burden per response (in hours) | Total burden (in hours)
State Education Agency Contacts | Recruitment Guidelines Script | 17 | 1 | 30/60 | 9
School District Contacts | Recruitment Guidelines Script | 80 | 1 | 30/60 | 40
School Contacts | Recruitment Guidelines Script | 133 | 1 | 30/60 | 67
Teachers | Data Collection Checklist for the Survey | 400 | 1 | 15/60 | 100
Students | NYPANS Survey | 8,000 | 1 | 45/60 | 6,000
| Height and Weight Record Form | 8,000 | 1 | 3/60 | 400
| Dietary Recall Interview | 1,000 | 3 | 30/60 | 1,500
Total |  |  |  |  | 8,116

Dated: January 29, 2009.
Maryam I. Daneshvar,
Acting Reports Clearance Officer, Centers for Disease Control and Prevention.

[FR Doc. E9-2457 Filed 2-4-09; 8:45 am]

BILLING CODE 4163-18-P